FARM CREDIT ADMINISTRATION

12 CFR Part 627

RIN 3052-AC38

Title IV Conservators, Receivers, and Voluntary Liquidations; Priority of Claims—Subordinated Debt; Effective Date

AGENCY: Farm Credit Administration.

ACTION: Notice of effective date.

SUMMARY: The Farm Credit Administration (FCA or Agency), through the FCA Board (Board), issued a direct final rule with opportunity for comment under part 627 on September 26, 2007 (72 FR 54525) amending the priority of claims regulations to provide that, when assets of a Farm Credit System institution in liquidation are distributed, the claims of holders of subordinated debt will be paid after all general creditor claims. The opportunity for comment expired on October 26, 2007. The FCA received no comments and therefore, the direct final rule becomes effective without change. In accordance with 12 U.S.C. 2252, the effective date of the final rule is 30 days from the date of publication in the Federal Register during which either or both Houses of Congress are in session. Based on the records of the sessions of Congress, the effective date of the regulations is November 16, 2007.

DATES: Effective Date: The regulation amending 12 CFR part 627 published on September 26, 2007 (72 FR 54525) is effective November 16, 2007.

FOR FURTHER INFORMATION CONTACT:

Christopher D. Wilson, Policy Analyst, Office of Regulatory Policy, Farm Credit Administration, McLean, Virginia 22102-5090, (703) 883-4498, TTY (703) 883-4434, or

Rebecca S. Orlich, Senior Counsel, Office of General Counsel, Farm Credit Administration, McLean, Virginia 22102-5090, (703) 883-4020, TTY (703) 883-4020.

(12 U.S.C. 2252(a)(9) and (10))

Dated: November 16, 2007.
James M. Morris,
Acting Secretary, Farm Credit Administration Board.

[FR Doc. E7-22805 Filed 11-21-07; 8:45 am]

BILLING CODE 6705-01-P